DEPARTMENT OF AGRICULTURE

Federal Crop Insurance Corporation

7 CFR Part 457

RIN 0563-AB94

General Administrative Regulations, Common Crop Insurance Regulations, Basic Provisions; Correction

AGENCY: Federal Crop Insurance Corporation, USDA.

ACTION: Final rule; correction.

SUMMARY: The document contains a correction to the final regulation which was published Tuesday, August 10, 2004. The regulation pertains to the Common Crop Insurance Regulations, Basic Provisions.

EFFECTIVE DATE: December 14, 2004.

FOR FURTHER INFORMATION CONTACT: Janice Nuckolls, Insurance Management Specialist, Research and Development, Product Development Division, Risk Management Agency, United States Department of Agriculture, 6501 Beacon Drive, Stop 0812, Room 421, Kansas City, MO, 64133-4676, telephone (816) 926-7730.

SUPPLEMENTARY INFORMATION:

Background

This correcting amendment corrects changes to the Common Crop Insurance Regulations; Basic Provisions.

Need for Correction

As published, in the Federal Register on August 10, 2004 (69 FR 48652) the FR Rule Document 04-18056 contained an error that may prove to be misleading and needs to be clarified.

List of Subjects in 7 CFR Part 457

Crop Insurance, Federal Crop Insurance Corporation, Reporting and recordkeeping requirements.

Accordingly, 7 CFR part 457 is corrected by making the following corrected amendment:

PART 457—COMMON CROP INSURANCE REGULATIONS

1. The authority citation for part 457 continues to read as follows:

Authority: 7 U.S.C. 1506(1) and 1506(p).

2. Section 457.8 is amended by revising section 17(e)(1)(i)(A) to read as follows:

§ 457.8 The application and policy.

* * * * *

17. Prevented Planting

* * * * *

(e) * * *

(1) * * *

(i) * * *

(A) The maximum number of acres certified for APH purposes, or insured acres reported, for the crop in any one of the 4 most recent crop years (not including reported prevented planting acreage that was planted to a second crop unless you meet the double cropping requirements in section 17(f)(4)). The number of acres determined above for a crop may be increased by multiplying it by the ratio of the total cropland acres that you are farming this year (if greater) to the total cropland acres that you farmed in the previous year, provided that you submit proof to us that for the current crop year you have purchased or leased additional land or that acreage will be released from any USDA program which prohibits harvest of a crop. Such acreage must have been purchased, leased, or released from the USDA program, in time to plant it for the current crop year using good farming practices. No cause of loss that would prevent planting may be evident at the time you lease the acreage (except acreage you leased the previous year and continue to lease in the current crop year); you buy the acreage; the acreage is released from a USDA program which prohibits harvest of a crop; you request a written agreement to insure the acreage; or you otherwise acquire the acreage (such as inherited or gifted acreage).

* * * * *

Signed in Washington, DC, on December 8, 2004.
Ross J. Davidson, Jr.,
Manager, Federal Crop Insurance Corporation.

[FR Doc. 04-27313 Filed 12-13-04; 8:45 am]

BILLING CODE 3410-08-P